DEPARTMENT OF THE INTERIOR

Fish and Wildlife Service

50 CFR Part 17

[Docket No. FWS-R2-ES-2013-0056; FXES11130900000C2-134-FF09E32000]

RIN 1018-AY46

Endangered and Threatened Wildlife and Plants; Proposed Revision to the Nonessential Experimental Population of the Mexican Wolf

AGENCY: Fish and Wildlife Service, Interior.

ACTION: Proposed rule; extension of public comment period, and announcement of public hearing.

SUMMARY: We, the U.S. Fish and Wildlife Service (Service), recently published a proposal to revise the existing nonessential experimental population designation of the Mexican wolf (Canis lupus baileyi), and we announced the opening of a 90-day public comment period on the proposed revised rule, ending September 11, 2013. We now extend the public comment period to October 28, 2013. Comments previously submitted need not be resubmitted and will be fully considered in preparation of the final rule. We also announce a public hearing on our proposed revised rule.

DATES: Written Comments: The public comment period on the proposal to revise the nonessential experimental population of the Mexican wolf is extended to October 28, 2013. Please note comments submitted electronically using the Federal eRulemaking Portal (see ADDRESSES section, below) must be received by 11:59 p.m. Eastern Time on the closing date. If you are submitting your comments by hard copy, please mail them by October 28, 2013, to ensure that we receive them in time to give them full consideration.

Public Hearing: We will hold a public hearing on Friday, October 4, 2013, from 6 p.m. to 9 p.m., in Albuquerque, New Mexico.

ADDRESSES: Written Comments: You may submit comments by one of the following methods:

(1) Electronically: Go to the Federal eRulemaking Portal: http://www.regulations.gov. Search for FWS-R2-ES-2013-0056, which is the docket number for this rulemaking. Please ensure you have found the correct document before submitting your comments. If your comments will fit in the provided comment box, please use this feature of http://www.regulations.gov, as it is most compatible with our comment review procedures. If you attach your comments as a separate document, our preferred file format is Microsoft Word. If you attach multiple comments (such as form letters), our preferred format is a spreadsheet in Microsoft Excel. Submissions of electronic comments on our proposal to remove the gray wolf from the List of Endangered and Threatened Wildlife (List) but to maintain endangered status for the Mexican wolf by listing it as a subspecies (Canis lupus baileyi), which also published in the Federal Register on June 13, 2013, should be submitted to Docket No. FWS-HQ-ES-2013-0073 using the method described above.

(2) By hard copy: Submit by U.S. mail or hand-delivery to: Public Comments Processing, Attn: FWS-R2-ES-2013-0056; Division of Policy and Directives Management; U.S. Fish and Wildlife Service; 4401 N Fairfax Drive, MS 2042-PDM; Arlington, VA 22203.

(3) At the public hearing: Written comments will be accepted by Service personnel at the scheduled public hearing.

We will post all comments received on http://www.regulations.gov. This generally means that we will post any personal information you provide us (see the Public Comments section below for more information).

Public Hearing: We will hold a public hearing on the proposed revision to the nonessential experimental population of the Mexican wolf at the Embassy Suites, 1000 Woodward Place NE., Albuquerque, NM 87102; 505-245-7100. This public hearing will also cover our proposal to remove the gray wolf from the List of Endangered and Threatened Wildlife and maintain protections for the Mexican wolf (Canis lupus baileyi) by listing it as endangered (78 FR 35664).

FOR FURTHER INFORMATION CONTACT: Mexican Wolf Recovery Program, U.S. Fish and Wildlife Service, New Mexico Ecological Services Office, 2105 Osuna Road NE., Albuquerque, NM 87133; telephone 505-761-4704; facsimile 505-346-2542. If you use a telecommunications device for the deaf (TDD), call the Federal Information Relay Service (FIRS) at 800-877-8339.

SUPPLEMENTARY INFORMATION:

Public Comments

We are extending the comment period for 45 days on our proposed revision to the nonessential experimental population of the Mexican wolf that was published in the Federal Register on June 13, 2013 (78 FR 35719). For the types of information we are seeking public comments on, please see Information Requested section of the June 13, 2013 (78 FR 35719), proposed revision to the nonessential experimental population of the Mexican wolf. We will reopen the comment period on the proposed rule this winter in conjunction with a comment period on our draft environmental impact statement, Proposed Revision to the Nonessential Experimental Population of the Mexican Wolf (Canis lupus baileyi) and the Implementation of a Management Plan (78 FR 47268, August 5, 2013). At that time, additional public information meetings and public hearings will be held in conjunction with the public comment period on both the proposed rule and the draft environmental impact statement.

Please note that submissions merely stating support for or opposition to the action under consideration without providing supporting information, although noted, will not be considered in making a determination. You may submit your comments and materials concerning this proposed rule by one of the methods listed in the ADDRESSES section. We request that you send comments only by the methods described in the ADDRESSES section.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as some of the supporting documentation we used in preparing the proposed rule, will be available for public inspection on http://www.regulations.gov at Docket No. FWS-R2-ES-2013-0056, or by appointment, during normal business hours, at the U.S. Fish and Wildlife Service, New Mexico Ecological Services Office (see FOR FURTHER INFORMATION CONTACT).

We intend that any final action resulting from the proposed rule will be based on the best scientific and commercial data available and be as accurate and as effective as possible. Therefore, we request comments or information from other concerned governmental agencies, tribes, the scientific community, industry, or other interested parties concerning this proposed rule. We request that you make your comments as specific as possible and explain the basis for them. In addition, please include sufficient information with your comments to allow us to authenticate any scientific or commercial data you reference or provide.

If you previously submitted comments or information on the proposed rule, please do not resubmit them. We will incorporate them into the public record as part of this comment period, and will fully consider them in the preparation of our final determination.

Public Hearing

We are holding a public hearing on the date listed in the DATES section at the location listed in the ADDRESSES section. The public hearings on the June 13, 2013 (78 FR 35664), proposal to remove the gray wolf from the List and maintain protections for the Mexican wolf by listing it as endangered are announced elsewhere in today's Federal Register.

The October 4, 2013, public hearing in Albuquerque, NM, will address both the June 13, 2013 (78 FR 35664) proposal to remove the gray wolf from the List and maintain protections for the Mexican wolf by listing it as endangered, as well as the June 13, 2013 (78 FR 35719), proposed revision to the nonessential experimental population of the Mexican wolf.

This public hearing will provide interested parties an opportunity to present verbal testimony (formal, oral comments) or written comments. A public hearing is not, however, an opportunity for dialogue with the Service or its contractors; it is a forum for accepting formal verbal testimony. Anyone wishing to make an oral statement at the public hearing for the record is encouraged to provide a written copy of their statement to us at the hearing. In the event there is a large attendance, the time allotted for oral statements may be limited. Speakers can sign up at the hearing if they desire to make an oral statement. Oral and written statements receive equal consideration. There are no limits on the length of written comments submitted to us.

Persons with disabilities needing reasonable accommodations to participate in the public hearing should contact the Mexican Wolf Recovery Program, New Mexico Ecological Services Office (see FOR FURTHER INFORMATION CONTACT). Reasonable accommodation requests should be received at least 3 business days prior to the hearing to help ensure availability; at least 2 weeks prior notice is requested for American sign language or English as a second language interpreter needs.

Authors

The primary authors of this notice are the staff of the Mexican Wolf Recovery Program, U.S. Fish and Wildlife Service.

Authority: The authority for this action is the Endangered Species Act of 1973, as amended (16 U.S.C. 1531 et seq.).

Dated: August 30, 2013.
Michael Bean,
Acting Principal Deputy Assistant Secretary for Fish and Wildlife and Parks.

[FR Doc. 2013-21665 Filed 9-4-13; 8:45 am]

BILLING CODE 4310-55-P